DEPARTMENT OF COMMERCE

National Oceanic and Atmospheric Administration

50 CFR Part 622

[I.D. 090302C]

Fisheries of the Caribbean, Gulf of Mexico, and South Atlantic; Draft Amendment to the Fishery Management Plan (FMP) for the Reef Fish Resources of the Gulf of Mexico to Establish a Red Snapper Rebuilding Plan; Proposed Amendment 13 to the FMP for the Shrimp Resources of the Gulf of Mexico; Scoping Meeting

AGENCY: National Marine Fisheries Service (NMFS), National Oceanic and Atmospheric Administration (NOAA), Commerce.

ACTION: Notice of intent; amendment; notice of scoping meeting; request for comments.

SUMMARY: The purpose of this document is to amend two documents published in the Federal Register on August 19, 2002. The first notice referenced the intent of the Gulf of Mexico Fishery Management Council (Gulf Council) to prepare a draft supplemental environmental impact statement (DSEIS) in association with proposed Amendment 13 to the Gulf Shrimp FMP. The second notice referenced the Gulf Council's intent to prepare a DSEIS in association with a draft amendment to the Reef Fish FMP to establish a red snapper rebuilding plan.

Both of those documents provided a schedule of eight public meetings organized by the Gulf Council to solicit public input on the range of alternatives and scope of impacts to be analyzed in the two DSEISs. This document amends the notices to add a ninth scoping meeting to that schedule.

DATES: As specified in the notices published at 67 FR 53769 and 67 FR 53771, written comments on the scope of issues to be addressed in the two DSEISs must be received by the Council by September 18, 2002. See the SUPPLEMENTARY INFORMATION section of this document for the specific date and time of the ninth scoping meeting added through this action.

ADDRESSES: Written comments on the scope of the DSEISs, and requests for additional information on the draft red snapper rebuilding plan and on proposed Amendment 13, should be sent to the Gulf of Mexico Fishery Management Council, The Commons at Rivergate, 3018 U.S. Highway 301 North, Suite 1000, Tampa, FL 33619; telephone: 813-228-2815; fax: 813-225-7015. Comments may also be sent by e-mail to Peter.Hood@gulfcouncil.org. See the SUPPLEMENTARY INFORMATION section of this document for the address of the ninth scoping meeting added through this action.

FOR FURTHER INFORMATION CONTACT: Peter Hood; phone: 813-228-2815; fax: 813-225-7015; e-mail: Peter.Hood@gulfcouncil.org or Phil Steele; phone: 727-570-5305; fax: 727-570-5583; e-mail: Phil.Steele@noaa.gov.

SUPPLEMENTARY INFORMATION: The Gulf Council is considering amendments to two FMPs. Proposed Amendment 13 would establish stock status determination criteria for managed shrimp stocks in the Gulf of Mexico. Amendment 13 may also consider management alternatives related to adding rock shrimp to the management unit of the shrimp FMP, requiring endorsements for vessels harvesting rock shrimp and royal red shrimp in the exclusive economic zone (EEZ) of the Gulf of Mexico, requiring vessel monitoring systems aboard shrimp trawl vessels fishing in or transiting all or some portions of the Gulf of Mexico EEZ, improving bycatch reporting, and further reducing bycatch in the shrimp fishery. The draft amendment to the Reef Fish FMP would establish a red snapper rebuilding plan that is based on biomass-based stock rebuilding targets and thresholds.

Through two separate documents published August 19, 2002 (67 FR 53769 and 67 FR 53771), the Gulf Council notified the public of its intent to develop a DSEIS associated with proposed Amendment 13 and with the draft red snapper rebuilding plan. Those documents also provided a schedule of eight scoping meetings organized by the Council to solicit input from the public on the range of alternatives and scope of issues to be considered in those DSEISs. The scoping meetings for these two actions will run concurrently.

The purpose of this action is to notify the public that an additional scoping meeting has been added to the series published in 67 FR 53769 and in 67 FR 53771. The date and location of that meeting is as follows:

Monday, September 30, 2002, NMFS Panama City Laboratory, 3500 Delwood Beach Road, Panama City, FL; telephone: (850-234-6541).

The scoping meeting will begin at 6 p.m. The first portion of the meeting will be allocated to taking public comments on proposed Amendment 13. Scoping for the draft red snapper rebuilding amendment will commence immediately thereafter. The meeting will be physically accessible to people with disabilities. Requests for sign language interpretation or other auxiliary aids should be directed to Peter Hood at the Council (see ADDRESSES).

The notifications published at 67 FR 53769 and 67 FR 53771 provide detailed information on additional opportunities for public comment associated with the publication of the draft and final SEISs.

Dated: September 5, 2002
Virginia M. Fay,
Acting Director,Office of Sustainable Fisheries,National Marine Fisheries Service.

[FR Doc. 02-23097 Filed 9-11-02; 8:45 am]

BILLING CODE 3510-22-S